DEPARTMENT OF ENERGY

Federal Energy Regulatory Commission

[Project No.: 803-087]

Pacific Gas and Electric Company (PG&E); Notice of Application Accepted for Filing, Soliciting Motions To Intervene and Protests, Ready for Environmental Analysis, and Soliciting Comments, Recommendations, Preliminary Terms and Conditions, and Preliminary Fishway Prescriptions

May 1, 2008.

Take notice that the following hydroelectric application has been filed with the Commission and is available for public inspection.

a. Type of Application: New Major License.

b. Project No.: 803-087.

c. Date filed: October 2, 2007.

d. Applicant: Pacific Gas and Electric Company (PG&E).

e. Name of Project: DeSabla-Centerville Hydroelectric Project.

f. Location: The existing project is located on Butte Creek and the West Branch Feather River in Butte County, California. The project affects 145.7 acres of federal lands administered by the Lassen National Forest, 2.1 acres of federal lands administered by the Plumas National Forest, and 11.6 acres of federal lands administered by the U.S. Bureau of Land Management.

g. Filed Pursuant to: Federal Power Act 16 U.S.C. 791(a)-825(r).

h. Applicant Contact: Randal S. Livingston, Vice President-Power Generation, Pacific Gas and Electric Company, P.O. Box 770000, Mail Code: N11E, San Francisco, CA 94177; Telephone (415) 973-7000.

i. FERC Contact: Kenneth Hogan, (202) 502-8434 or kenneth.hogan@ferc.gov.

j. Deadline for filing motions to intervene and protests, comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “e-Filing” link.

k. This application has been accepted for filing and is now ready for environmental analysis.

The Toadtown development, which diverts water from the West Branch Feather River, consists of the following constructed facilities: (1) Round Valley Reservoir, a 98 acre reservoir with a gross storage capacity of 1,700 acre-feet; (2) Round Valley dam, an earthfill dam, 29-feet high and 810-feet long; (3) a 40-foot-wide overflow spillway; (4) a 15-inch outlet pipe at the base of Round Valley dam, and manual low level outlet valve; (5) Philbrook Reservoir, a 173 acre reservoir with a gross storage capacity of 4,985 acre-feet; (6) Philbrook main dam (located on Philbrook Creek), a compacted earthfill dam, 87-feet high and 850-feet long; (7) Philbrook auxiliary dam (170 feet to the right of the main dam), a compacted earthfill dam, 24-feet high and 470-feet long; (8) a 29.7-foot-wide spillway with 5 flashboard bays; (9) a 10.75-foot-long and 14.75-foot-wide spillway with a single, manual radial gate; (10) a 33-inch diameter, 460-foot-long outlet conduit from Philbrook Reservoir; (11) a 17-foot high, 8-feet diameter submerged vertical concrete intake, controlled by a 30-inch diameter manual needle valve; (12) Hendricks Head Dam, a concrete gravity dam, 15-feet high with an overflow spillway section 98-feet wide; (13) a 8.66-mile-long Hendricks Canal, composed mostly of earthen ditch with several flume and tunnel sections, with a capacity of 125 cfs; (14) feeder diversions from 4 creeks into Hendricks/Toadtown canal; (15) a 40-inch diameter, 1,556-foot-long steel penstock; (16) Toadtown Powerhouse, a 28- by 44-foot reinforced concrete building, with one turbine-generator unit and a normal operating capacity of 1.5 MW; (17) a 1500-foot-long 12 kv tapline connecting Toadtown Powerhouse to a distribution system; and (18) appurtenant facilities.

The DeSabla development, which diverts water from upper Butte Creek and uses the outflow of the Toadtown development, consists of the following constructed facilities: (1) The 2.4-mile-long Toadtown Canal, an earthen canal with a capacity of 125 cfs; (2) Butte Creek Diversion Dam, a 50-foot-high, 100-foot-long, concrete arch dam with an overflow spillway; (3) a 11.4-mile-long Butte Canal, composed of earthen berm sections, gunited sections, tunnel sections, a siphon, and flume sections, with a capacity of 91 cfs; (4) a 0.7-mile-long canal that combines Butte Canal with Toadtown Canal, with a capacity of 191 cfs; (5) feeder diversions from 4 creeks that flow into Butte Canal (1 not in use); (6) DeSabla Dam, a 50-foot-high, 100-foot-wide earthen embankment with a spillway canal; (7) DeSabla Forebay, a 15 acre reservoir with a gross storage capacity of 163 acre-feet (originally 188 acre-feet); (8) a 66-inch diameter, reduced to 42-inch diameter, 1.3-mile-long steel penstock; and (9) DeSabla Powerhouse, a 26.5- by 41-foot reinforced concrete building, with one turbine-generator unit and a normal operating capacity of 18.5 MW; (10) a 0.25-mile-long transmission tapline connecting DeSabla Powerhouse to the 60 kV Oro Fino Tap Line; and (11) appurtenant facilities.

The Centerville development, which diverts the flow of Butte Creek downstream of the DeSabla development, consists of the following constructed facilities: (1) The Upper Centerville Canal, that originates at DeSabla Powerhouse and ends at Helltown Ravine (currently carries a few cfs for local water uses and has not been used for power generation for many years); (2) Lower Centerville Diversion Dam, a 12-foot high, 72.5 foot-wide concrete arch dam with an overflow spillway; (3) an 8-mile long Lower Centerville Canal, composed of earthen canal and several flume sections, with a capacity of 183 cfs; (4) feeder diversions from 3 creeks that flow into Lower Centerville Canal (all 3 no longer in use); (5) one 30-inch diameter and one 42-inch diameter, reduced to 36-inch diameter, 2,559-foot long steel penstocks; (6) Centerville Forebay, a 27- by 37-foot concrete header box with a spillway channel; (7) Centerville Powerhouse, a 32- by 109-foot reinforced concrete building, with two turbine-generator units and a total normal operating capacity of 6.4 MW; and (8) appurtenant facilities.

PG&E operates the project primarily as a run-of-river system and operates on a continuous basis, using the water supply available after satisfaction of the minimum instream flow requirements. During the winter and spring, base flows in the West Branch of the Feather River and Butte Creek typically provide adequate flow for full operation of the Project powerhouses. During the summer months, the available base flow water is augmented by water releases from Round Valley and Philbrook reservoirs.

During the fall months, Project powerhouses are operated at reduced capacities due to low stream flows.

Water releases from Round Valley reservoir flow down the West Branch Feather River, and water releases from Philbrook reservoir pass down natural channels of Philbrook Creek and the West Branch Feather River about 8 miles to Hendricks Head dam. Then water is conveyed in the Hendricks canal, through Toadtown Powerhouse, then into the Toadtown canal. From this point, the water is conveyed in the Butte Creek canal to DeSabla Forebay then discharged into Butte Creek. Water flow is then diverted into the Lower Centerville canal to the Centerville header box, through the Centerville Powerhouse, and finally discharged to Butte Creek.

PG&E proposes to continue operating the Project with no change to Project generation facilities or features other than adoption of resource management measures and the deletion of five feeder diversions.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

m. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

n. Procedural Schedule:

The application will be processed according to the following revised Hydro Licensing Schedule. Revisions to the schedule may be made as appropriate.

Milestone | Target Date
Filing of recommendations, preliminary terms and conditions, and preliminary fishway prescriptions | June 30, 2008.
Commission issues Draft EA | December 27, 2008.
Comments on Draft EA | January 26, 2009.
Modified Terms and Conditions | March 27, 2009.
Commission Issues Final EA | June 25, 2009.

o. Final amendments to the application must be filed with the Commission no later than 30 days from the issuance date of this notice.

p. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. E8-10195 Filed 5-7-08; 8:45 am]

BILLING CODE 6717-01-P